DEPARTMENT OF ENERGY

Federal Energy Regulatory Commission

[Docket No. RP00-296-000]

South Georgia Natural Gas Company; Request for Waiver of Filing Proposed Changes to FERC Gas Tariff

May 25, 2000.

Take notice that on May 22, 2000, South Georgia Natural Gas Company (South Georgia) tendered for filing the following request for a waiver of filing revised sheets to its FERC Gas Tariff, Second Revised Volume No. 1.

South Georgia states that the request for waiver is submitted pursuant to Section 19.2 of the General Terms and Conditions of its Tariff to adjust its fuel retention percentage (FRP) for all transportation services on its system. The derivation of the revised FRP is based on South Georgia's gas required for operations (GRO) for the twelve-month period ending April 30, 2000, adjusted for the balance accumulated in the Deferred GRO Account at the end of said period, divided by the transportation volumes received during the same twelve-month period. In the filing, South Georgia requests a waiver due to the Stipulation and Agreement (“S&A”) filed by Southern Natural Gas Company (Southern Natural) on March 10, 2000 in Docket No. RP99-496.

The S&A proposes, upon authorization of the Commission, South Georgia will be terminated as a separate pipeline company and South Georgia's facilities will be included in Southern Natural's system. Approval of the stipulation by the Commission will constitute approval by the Commission of various certificate and abandonment applications. The addition of the South Georgia facilities to the Southern Natural system will be made effective as of the later of: (a) August 1, 2000; or (b) the first day of the second month following: (i) A final FERC order approving the stipulation; and (ii) the issuance of any other FERC authorization that may be required. As a result, South Georgia is requesting this waiver of Section 19.2 of the General Terms and Conditions of its Tariff to postpone changing its FRP pending approval of the S&A. Upon approval of the S&A, South Georgia proposes to true-up its fuel over or undercollection for the period beginning May 1, 1999 and ending immediately prior to the merger of South Georgia with Southern Natural through a one time cash-out of such over or undercollection.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before June 1, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13632 Filed 5-31-00; 8:45 am]

BILLING CODE 6717-01-M